DEPARTMENT OF ENERGY

Federal Energy Regulatory Commission

18 CFR Part 35

[Docket No. RM02-12-000]

Standardization of Small Generator Interconnection Agreements and Procedures; Advance Notice of Proposed Rulemaking; Notice of Staff Public Meeting

August 20, 2002.

AGENCY: Federal Energy Regulatory Commission, DOE.

ACTION: Advance notice of proposed rulemaking; staff public meeting.

SUMMARY: On August 16, 2002 (67 FR 54749, August 26, 2002), the Federal Energy Regulatory Commission (Commission) issued an Advance Notice of Proposed Rulemaking seeking comments on standard small generator interconnection agreements and procedures that would be applicable to all public utilities that own, operate, or control transmission facilities under the Federal Power Act. This document announces a staff public meeting that will enable the parties to discuss and reach consensus on the proposed agreements and procedures.

DATES: The meeting will take place September 9 and 10, 2002, at 10 a.m.

ADDRESSES: Commission Meeting Room, Federal Energy Regulatory Commission, 888 First Street, NE., Washington, DC 20426.

FOR FURTHER INFORMATION CONTACT:

Michael G. Henry (Legal Information), Office of the General Counsel, Federal Energy Regulatory Commission, 888 First Street, NE., Washington, DC 20426, (202) 502-8532.

G. Patrick Rooney (Technical Information), Office of Market, Tariffs and Rates, Federal Energy Regulatory Commission, 888 First Street, NE., Washington, DC 20426, (202) 502-6205.

Bruce A. Poole (Technical Information), Office of Market, Tariffs and Rates, Federal Energy Regulatory Commission, 888 First Street, NE., Washington, DC 20426, (202) 502-8468.

James S. Ballard (Technical Information), Office of Market, Tariffs and Rates, Federal Energy Regulatory Commission, 888 First Street, NE., Washington, DC 20426, (202) 502-8729.

SUPPLEMENTARY INFORMATION: The Federal Energy Regulatory Commission (Commission) has issued an Advance Notice of Proposed Rulemaking seeking comments on standard small generator interconnection agreements and procedures that would be applicable to all public utilities that own, operate, or control transmission facilities under the Federal Power Act.

The Commission has directed staff to try to develop a consensus on the standard small generator interconnection agreements and procedures. To this end, the Commission staff will hold a meeting on Monday, September 9, from 10 a.m. until 5 p.m. in the Commission Meeting Room at the Federal Energy Regulatory Commission, 888 First Street, NE., Washington, DC. Breakout discussion meetings will be continued on Tuesday, September 10, 2002. These meetings will be open to the public.

All subsequent public meetings to discuss standard small generator interconnection agreements and procedures will be announced on the Commission's Internet site at http://www.ferc.gov/electric/gen_inter.htm.

Linwood A. Watson, Jr.,
Deputy Secretary.

[FR Doc. 02-22024 Filed 8-28-02; 8:45 am]

BILLING CODE 6717-01-P